DEPARTMENT OF DEFENSE

Office of the Secretary

[Docket ID DoD-2015-OS-0016]

Privacy Act of 1974; System of Records

AGENCY: Office of the Secretary of Defense, DoD.

ACTION: Notice to alter a System of Records.

SUMMARY: The Office of the Secretary of Defense proposes to alter a system of records, V5-02, entitled “Defense Clearance and Investigations Index (DCII)” in its inventory of record systems subject to the Privacy Act of 1974, as amended.

The DCII is a central database of DoD conducted or sponsored investigations used by DoD law enforcement activities, personnel security adjudicators, and in the Continuous Evaluation program. It also aggregates the results of National Agency Check (NAC) information prior to February 2005 (NAC information after this period is maintained by OPM as well as other Federal investigative agencies). Records document investigations on file with DoD agencies and the United States Coast Guard.

The database also provides data query, data management and reporting capabilities on data pertaining to the existence and physical location of criminal and personnel security investigative files.

DATES: Comments will be accepted on or before March 16, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Division Web site at http://dpcld.defense.gov/.

The proposed system report, as required by U.S.C. 552a(r) of the Privacy Act of 1974, as amended, was submitted on February 6, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 9, 2015.
Aaron Siegel,
Alternate OSD Federal Register Liaison Officer, Department of Defense.

V5-02

System name:

Defense Clearance and Investigations Index (DCII) (August 17, 1999, 64 FR 44704).

Changes:

* * * * *

System ID:

Delete entry and replace with “DMDC 13 DoD.”

System name:

Delete entry and replace with “Defense Central Index of Investigations (DCII).”

System location:

Delete entry and replace with “Defense Manpower Data Center, DoD Center Monterey Bay, 400 Gigling Road, Seaside, CA 93955-6771.”

Categories of individuals covered by the system:

Delete entry and replace with “All Armed Forces personnel, DoD and U.S. Coast Guard civilian employees, federal contractor employees, and applicants, “affiliated” personnel (such as Non-Appropriated Fund employees, Red Cross volunteers and staff; USO personnel, and congressional staff members) who are the subject of an investigation completed by or for a DoD investigative organization or the United States Coast Guard when that investigation is retained by the organization and the name is submitted for central indexing.”

Categories of records in the system:

Delete entry and replace with “Records contain names, known alias, Social Security Number (SSN), date of birth, state of birth, country of birth, date investigation completed, employing agencies/companies, type of incident, type of record, and investigation information to include custodian of the file, year indexed, number used by the repository to locate the file location of the investigation, and file number.”

Authority for maintenance of the system:

Delete entry and replace with “E.O. 12829, National Industrial Security Program; E.O. 13467, Reforming Processes Related to Suitability for Government Employment, Fitness for Contractor Employees, and Eligibility for Access to Classified National Security Information; DoD Instruction 1320.04, Military Officer Actions Requiring Presidential, Secretary of Defense, or Under Secreary of Defense for Personnel and Readiness Approval or Senate Confirmation; DoDI 5200.02, DoD Personnel Security Program (PSP); DoDI 5505.07, Titling and Indexing Subjects of Criminial Investigations in the Department of Defense; and E.O. 9397 (SSN), as amended.”

Purpose(s):

Delete entry and replace with “The DCII is a central database of DoD conducted or sponsored investigations used by DoD law enforcement activities, personnel security adjudicators, and in the Continuous Evaluation program. It also aggregates the results of National Agency Check (NAC) information prior to February 2005 (NAC information after this period is maintained by OPM as well as other Federal investigative agencies). Records document investigations on file with DoD agencies and the United States Coast Guard.

The database also provides data query, data management and reporting capabilities on data pertaining to the existence and physical location of criminal and personnel security investigative files.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To the White House to obtain approval of the President of the United States regarding certain military personnel officer actions.

To the U.S. Senate for appointments and promotions which require Senate confirmation.

To Federal agencies for use in the performance of criminal investigation and personnel security activities to determine the security clearance status of an individual and to determine the existence or physical location of criminal and personnel security investigative files.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD blanket routine uses can be found online at: http://dpcld.defense.gov/Privacy/SORNsIndex/BlanketRoutineUses.aspx”

Policies and practices for storing, retrieving, accessing, retaining, and disposing of records in the system:

Storage:

Delete entry and replace with “Electronic storage media.”

Retrievability:

Delete entry and replace with “SSN, name, combination of another data element with date of birth and/or place of birth; and/or by employing agencies/companies, type of incident, type of record, or file number.”

Safeguards:

Delete entry and replace with “Records are accessible only to authorized persons with a valid need-to-know, who are appropriately screened, investigated, and determined eligible for access. Physical safeguards include guards, the use of identification badges, and closed circuit TV. Technical safeguards include Personally Identifiable Verification (PIV) card login, Intrusion Detection System, encryption, firewall, and virtual private network. Administrative safeguards include security audits, monitoring of users' security practices, and encrypting backups of sensitive data offsite.”

Retention and disposal:

Delete entry and replace with “Records are deleted in accordance with DoD Component authorized disposition schedules or 15 years after completion date of the last update for that file, whichever is sooner.”

System manager(s) and address:

Delete entry and replace with “Deputy Director for Identity and Personnel Assurance, Defense Manpower Data Center, 4800 Mark Center, Alexandria, VA 22350-4000.”

Notification procedure:

Delete entry and replace with “Individuals seeking to determine whether information about themselves is contained in this system should address written inquiries to: Defense Manpower Data Center (DMDC) Boyers, ATTN: Privacy Act Office, P.O. Box 168, Boyers, PA 16020-0168.

Written requests must contain the full name and SSN of the subject individual, along with a return address.”

Record access procedures:

Delete entry and replace with “Individuals seeking access to records about themselves contained in this system should address written inquiries to: Defense Manpower Data Center (DMDC) Boyers, ATTN: Privacy Act Office, P.O. Box 168, Boyers, PA 16020-0168.

Signed, written requests must contain the full name and SSN of the subject individual, a return address, and the name and number of this system of records notice.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Attorneys or other persons acting on behalf of an individual must provide written authorization from that individual for their representative to act on their behalf.”

Contesting record procedures:

Delete entry and replace with “The Office of the Secretary of Defense (OSD) rules for accessing records, for contesting contents, and appealing initial agency determinations are published in OSD Administrative Instruction 81, 32 CFR part 311; or may be obtained directly from the system manager.”

Record source categories:

Delete entry and replace with “Air Force Office of Special Investigations, Army Crime Records Directorate, Army Investigation Record Repository, Defense Contract Management Agency, Defense Intelligence Agency, Defense Logistics Agency, Department of Defense Consolidated Adjudications Facility, Department of Defense Office of Inspector General, National Security Agency, Naval Criminal Investigative Service, Pentagon Force Protection Agency, United States Coast Guard and other DoD agencies performing criminal investigation or personnel security activities.”

* * * * *

[FR Doc. 2015-02968 Filed 2-12-15; 8:45 am]

BILLING CODE 5001-06-P